DEPARTMENT OF DEFENSE

Office of the Secretary

Federal Advisory Committee; Defense Health Board (DHB) Meeting

AGENCY: Department of Defense (DoD)

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the Defense Health Board (DHB) announces that it will meet on June 14 and 15, 2011. Subject to the availability of space, the meeting is open to the public on June 14 from 9:30 a.m. to 12:45 p.m. and from 1:45 p.m. to 5 p.m.

DATES: The meeting will be held:

June 14, 2011

8 a.m.-9 a.m. (Administrative Working Meeting).

9:30 a.m.-12:45 p.m. (Open Session).

12:45 p.m.-1:45 p.m. (Administrative Working Meeting).

1:45 p.m.-5 p.m. (Open Session).

June 15, 2011

8 a.m.-2 p.m. (Closed Session).

ADDRESSES: The June 14 meeting will be held at the Renaissance Arlington Capital View Hotel, 2800 South Potomac Avenue, Arlington, VA 22202.

The June 15 meeting will be held at the Army National Guard Readiness Center, 111 South George Mason Drive, Arlington, VA 22204.

Written statements may be mailed to the address under FOR FURTHER INFORMATION CONTACT, e-mailed to dhb@ha.osd.mil, or faxed to (703) 681-3317.

FOR FURTHER INFORMATION CONTACT: Ms. Christine Bader, Director, Defense Health Board, Five Skyline Place, 5111 Leesburg Pike, Suite 810, Falls Church, Virginia 22041-3206, (703) 681-8448 x1215, Fax: (703) 681-3317, Christine.bader@tma.osd.mil.

SUPPLEMENTARY INFORMATION: Purpose of the Meeting:

The purpose of the meeting is to address and deliberate pending and new Board issues and provide briefings for Board members on topics related to ongoing Board business.

Agenda:

On June 14, 2011, the DHB will receive briefings on military health needs and priorities. The following DHB Subcommittees will present updates to the Board: The Psychological Health External Advisory Subcommittee and the Trauma and Injury Subcommittee. Additionally, the Board will receive briefs regarding Department of Defense (DoD) Implementation of Recommendations from the DoD Task Force on the Prevention of Suicide by Members of the Armed Forces, DoD Response to Evidence-Based Metrics, and a briefing from the Joint Task Force National Capital Region Medical regarding Integration of Services. The Board will also vote on issues presented by the Psychological Health External Advisory Subcommittee and the Trauma and Injury Subcommittee.

Pursuant to 5 U.S.C. 552b, as amended, and 41 CFR 102-3.155, in the interest of national security, the DoD has determined that the meeting on June 15, 2011 will be closed to the public. The Under Secretary of Defense (Personnel and Readiness), in consultation with the Office of the DoD General Counsel, has determined in writing that the public interest requires that the session on June 15, 2011 be closed to public because it will concern matters listed in section 552b(c)(1) of title 5, United States Code. Specifically, the information presented meets criteria established by an executive order to be kept secret in the interest of national defense and foreign policy.

Pursuant to 5 U.S.C. 552b, as amended, and 41 CFR 102-3.140 through 102-3.165 and subject availability of space, the DHB meeting from 9:30 a.m. to 12:45 p.m. and from 1:45 p.m. to 5 p.m. on June 14, 2011 is open to the public. The public is encouraged to register for the meeting.

Additional information, agenda updates, and meeting registration are available online at the DHB Web site, http://www.health.mil/dhb/default.cfm.

Written Statements:

Any member of the public wishing to provide input to the DHB should submit a written statement in accordance with 41 CFR 102-3.140(C) and section 10(a)(3) of the Federal Advisory Committee Act, and the procedures described in this notice. Written statement should be no longer than two type-written pages and must address the following detail: The issue, discussion, and a recommended course of action. Supporting documentation may also be included as needed to establish the appropriate historical context and to provide any necessary background information.

Individuals desiring to submit a written statement may do so through the Board's Designated Federal Officer (DFO) (see FOR FURTHER INFORMATION CONTACT) at any point. If the written statement is not received at least 10 calendar days prior to the meeting, which is subject to this notice, then it may not be provided to or considered by the DHB until the next open meeting.

The DFO will review all timely submissions with the DHB President, and ensure they are provided to members of the DHB before the meeting that is subject to this notice. After reviewing the written comments, the President and the DFO may choose to invite the submitter of the comments to orally present their issue during an open portion of this meeting or at a future meeting.

The DFO, in consultation with the DHB President, may, if desired, allot a specific amount of time for members of the public to present their issues for review and discussion by the DHB.

Special Accommodations:

If special accommodations are required to attend (sign language, wheelchair accessibility) please contact Ms. Lisa Jarrett at (703) 681-8448 ext. 1280 by May 28, 2011.

Dated: April 21, 2011.
Morgan F. Park,
Alternate OSD Federal Register Liaison Officer, Department of Defense.

[FR Doc. 2011-10367 Filed 4-28-11; 8:45 am]

BILLING CODE 5001-06-P